DEPARTMENT OF THE INTERIOR

Bureau of Land Management

[LLMTB07900 14XL1109AF L10100000 PH0000 LXSIANMS0000 MO#4500069642]

Notice of Public Meeting; Western Montana Resource Advisory Council

AGENCY: Bureau of Land Management, Interior.

ACTION: Notice of intent.

SUMMARY: In accordance with the Federal Land Policy and Management Act (FLPMA) and the Federal Advisory Committee Act of 1972 (FACA), the U.S. Department of the Interior, Bureau of Land Management (BLM) Western Montana Resource Advisory Council (RAC) will meet as indicated below.

DATES: The Western Montana Resource Advisory Council meeting will be held September 17, 2014 in Dillon, Montana. The meeting will begin at 9 a.m. with a 30-minute public comment period starting at 11:30 a.m. and will adjourn at 3 p.m.

ADDRESSES: BLM's Dillon Field Office, 1005 Selway Drive, Dillon, MT.

FOR FURTHER INFORMATION CONTACT: David Abrams, Western Montana Resource Advisory Council Coordinator, Butte Field Office, 106 North Parkmont, Butte, MT 59701, 406-533-7617, dabrams@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This 15-member council advises the Secretary of the Interior through the BLM on a variety of management issues associated with public land management in Montana. During this meeting the council will discuss several topics, including the recent RAC Chair meeting in Billings, an update on the BLM's Greater Sage-Grouse Planning Strategy, and reports from the BLM's Butte, Missoula and Dillon field offices. All RAC meetings are open to the public. The public may present written comments to the RAC. Each formal RAC meeting will also have time allocated for hearing public comments. Depending on the number of persons wishing to comment and time available, the time for individual oral comments may be limited.

Authority: 43 CFR 1784.4-2.

Richard M. Hotaling,
District Manager, Western Montana District.

[FR Doc. 2014-20945 Filed 9-2-14; 8:45 am]

BILLING CODE 4310-DN-P